FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 16, 2007.

A. Federal Reserve Bank of Kansas City (Donna J. Ward, Assistant Vice President) 925 Grand Avenue, Kansas City, Missouri 64198-0001:

1. Jeffrey G. Dawson Revocable Trust dated 6-10-05, Mound City, Kansas, Jeffrey G. Dawson, trustee, to retain voting shares of Cunningham Agency, Inc., and thereby indirectly retain voting shares of Farmers and Merchants Bank of Mound City, both in Mound City, Kansas.

B. Federal Reserve Bank of Dallas (W. Arthur Tribble, Vice President) 2200 North Pearl Street, Dallas, Texas 75201-2272:

1. J & V Grist Family, Ltd., Andrews, Texas, and general partner, John E. Grist, Andrews, Texas; to acquire voting shares of Andrews Holding Company, Andrews, Texas, and thereby indirectly acquire voting shares of Commercial State Bank, Andrews, Texas.

Board of Governors of the Federal Reserve System, February 26, 2007.
Robert deV. Frierson,
Deputy Secretary of the Board.

[FR Doc. E7-3572 Filed 2-28-07; 8:45 am]

BILLING CODE 6210-01-S